DEPARTMENT OF THE INTERIOR

Bureau of Land Management

[LLCAN038000 L17110000.EB0000 16X LXSIWLDS0000]

Notice of Individual Special Recreation Permit Requirement in the King Range National Conservation Area, California

AGENCY: Bureau of Land Management, Interior.

ACTION: Notice.

SUMMARY: The Bureau of Land Management (BLM) provides notice of a new Individual Special Recreation Permit (ISRP) requirement for overnight use in the King Range Wilderness and Backcountry Management Zone (King Range Wilderness). The ISRP will limit the number of persons entering the King Range Wilderness for overnight use to 60 persons/day during the peak season (May 15-September 15), and 30 persons/day during the non-peak season (September 16-May 14). This action will limit overnight use of the King Range Wilderness for the first time. Day use entries will not be limited. The ISRP program will be administered through an electronic reservation system. The ISRP requirement results from analysis and planning direction provided by the 2012 King Range Wilderness and Rocks and Islands Wilderness Areas Management Plan (WMP), and the 2005 King Range National Conservation Area Resource Management Plan (RMP) both of which outline operational goals of the area and the purpose of a wilderness permit program.

DATES: The BLM's Arcata Field Office intends to implement the King Range Wilderness ISRP program, which will be administered through the electronic reservation system, Recreation.gov, with a projected go-live date in January 2017.

ADDRESSES: Additional information may be obtained by email request to CA338@blm.gov, or by mail to Bureau of Land Management, King Range Project Office, PO Drawer 189, Whitethorn, CA 95589, attention NCA Manager. Copies of the King Range WMP and King Range RMP are available in the King Range Project Office, 768 Shelter Cove Road, Whitethorn, CA and Arcata Field Office, 1695 Heindon Rd., Arcata, CA, 95521 and online at: http://www.blm.gov/ca/st/en/prog/nlcs/King_Range_NCA.html.

FOR FURTHER INFORMATION CONTACT: Benjamin Blom, NCA Manager, 707-825-2310, or Justin Robbins, Outdoor Recreation Planner, 707-986-5403. Persons who use a telecommunication device for the deaf (TDD) may call the Federal Information Relay Service (FIRS) at 1-800-877-8339 to contact the above individuals during normal business hours. The FIRS is available 24 hours a day, 7 days a week, to leave a message or question with the above individual. You will receive a reply during normal business hours.

SUPPLEMENTARY INFORMATION: The King Range NCA is a popular recreation and wilderness area and has received substantial Federal investment. Visitor use of the King Range Wilderness has almost doubled since completion of the King Range and Rocks and Islands Wilderness Management Plan in 2012, and has nearly tripled since wilderness designation in 2006.

In 2005, the BLM recognized the need to consider regulating overnight use in the King Range to protect wilderness character in the development of the King Range RMP. The RMP directed the BLM to establish visitor capacities in what is now the King Range Wilderness to manage for solitude and to reduce crowding at overnight camping locations. In combination with other actions, managing the total visitor load will maintain opportunities for solitude at most overnight locations and meet the intent of the Wilderness Act.

The Northern California Coastal Wild Heritage Wilderness Act of 2006 designated the 43,625-acre King Range Wilderness, as well as the Rocks and Islands Wilderness (all rocks and islands within three miles of the King Range coastline). A 2.5-mile coastal strip of the King Range NCA Backcountry Management Zone, which extends north from the wilderness boundary to the Mattole Trailhead, was not designated as part of the King Range Wilderness but is included in this new ISRP requirement. The King Range Wilderness and Rocks and Islands Wilderness Management Plan (WMP, 2012) specified a range of management actions to achieve visitor capacity and visitor load objectives, primarily by limiting daily visitor entries into the King Range Wilderness. The WMP also outlines implementation of an additional range of management actions to manage visitor use should limitations on daily entries not achieve visitor load objectives within the wilderness. Although the target of 60 starts per day (and estimated visitor load of 192 people at one time) may seem limited in a 43,625 acre wilderness area with over 80 miles of trails, analysis has shown that more than 80-90% percent of visitor use is concentrated along the 1,200 acres that comprise the northern coastal section of the Lost Coast Trail. The BLM is committed to finding the proper balance between public use and resource protection.

Authority: 16 U.S.C. 6803(b) and 43 CFR 2932.13.

Thomas Pogacnik,
Deputy State Director, Bureau of Land Management.

[FR Doc. 2016-21340 Filed 9-2-16; 8:45 am]

BILLING CODE 4310-40-P